DEPARTMENT OF TRANSPORTATION

Federal Highway Administration

[Docket No. FHWA-2024-0043]

Agency Information Collection Activities: Request for Comments for a New Information Collection

AGENCY: Federal Highway Administration (FHWA), DOT.

ACTION: Notice and request for comments.

SUMMARY: The FHWA invites public comments about our intention to request the Office of Management and Budget's (OMB) approval for a new information collection, which is summarized below under SUPPLEMENTARY INFORMATION. We are required to publish this notice in the Federal Register by the Paperwork Reduction Act of 1995.

DATES: Please submit comments by July 29, 2024.

ADDRESSES: You may submit comments identified by DOT Docket ID Number FHWA-2024-0043 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Ms. Tashia J. Clemons, Office of Infrastructure, 202-493-0551, tashia.clemons@dot.gov, Federal Highway Administration, 1200 New Jersey Ave. SE, Washington, DC 20590. Office hours are from 8:00 a.m. to 4:30 p.m., E.T., Monday through Friday, except Federal holidays.

SUPPLEMENTARY INFORMATION:

Title: Risk-Based Asset Management Plans.

Background: Under 23 U.S.C. 119(e) and implementing regulations at 23 CFR part 515, State Departments of Transportation (DOT) are required to develop Risked-Based Asset Management Plans (AMP) for the National Highway System (NHS) to improve or preserve the condition of the assets on and the performance of the NHS. Each State DOT must also annually demonstrate to FHWA that it has implemented an AMP that meets the requirements of 23 U.S.C. 119(e) and 23 CFR part 515 (23 CFR 515.13(b)(2)), and each State DOT must submit its processes for the development of its AMP to FHWA for certification and recertification every four years following the year of initial certification (23 U.S.C. 119(e)(6)). Section 11105(3) of the Bipartisan Infrastructure Law (BIL) (Pub. L. 117-58) added the requirement in 23 U.S.C. 119(e)(4)(D) that risk management and lifecycle cost analyses in AMPs discuss extreme weather and resilience.

Respondents: There are 52 State Departments of Transportation (State DOT) that are required to submit information (State DOTs).¹ Of these, 17 State DOTs already conduct extreme weather and resilience analyses.

¹ The District of Columbia and Puerto Rico are considered States for the purposes of the Federal-aid highway program. See 23 U.S.C. 101(a)(28).

Frequency: Annually (to demonstrate implementation of an AMP) and every 4 years (when submitting processes for the development of an AMP for recertification).

Estimated Average Burden per Response: Per State DOT, the estimated annual burden is 884 hours for the general AMP preparation, plus an additional 1,560 burden hours per State DOT that does not already perform extreme weather and resilience analyses.

Estimated Total Annual Burden Hours: Total estimated average annual burden is 100,568 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on May 24, 2024.
Jazmyne Lewis,
Information Collection Officer.

[FR Doc. 2024-11843 Filed 5-29-24; 8:45 am]

BILLING CODE 4910-22-P